DEPARTMENT OF EDUCATION

Office of Special Education and Rehabilitative Services; Grant Applications Under Part D, Subpart 2 of the Individuals With Disabilities Education Act

AGENCY: Department of Education.

ACTION: Notice inviting applications for new awards for fiscal year (FY) 2000; correction.

SUMMARY: On April 28, 2000, a notice inviting applications for new awards under the Office of Special Education and Rehabilitative Services; Grant Applications under Part D, Subpart 2 of the Individuals with Disabilities Education Act was published in the Federal Register (65 FR 25155). The notice contained a “chart” (65 FR 25169-25170) that provided closing dates and other information regarding the transmittal of applications for the Fiscal Year 2000 competitions. The chart inadvertently listed the wrong “Estimated number of awards” information for two competitions. This notice corrects the “Estimated number of awards” information.

In addition, the notice incorrectly lists eligible applicants for focus 2 twice under the Research and Innovation to Improve Services and Results for Children with Disabilities program (65 FR 25156). This notice corrects the Eligible Applicants section for the Research and Innovation to Improve Services and Results for Children with Disabilities program (65 FR 25156) by clarifying that the first “For focus 2 * * *” in this section should read, “For focus 1 * * *”.

FOR FURTHER INFORMATION CONTACT: For further information on this priority contact Debra Sturdivant, U.S. Department of Education, 400 Independence Avenue, SW, room 3317, Switzer Building, Washington, DC 20202-2641. FAX: (202) 205-8717 (FAX is the preferred method for requesting information). Telephone: (202) 205-8038. Internet: Debra Sturdivant@ed.gov

If you use a TDD you may call the Federal Information Relay Service (FIRS) at 1-800-877-8339.

Individuals with disabilities may obtain this document in an alternate format (e.g., Braille, large print, audiotape, or computer diskette) on request to the contact persons listed in the preceding paragraph.

BILLING CODE 4000-01-P

BILLING CODE 4000-01-C

Electronic Access to This Document

You may view this document, as well as all other Department of Education documents published in the Federal Register, in text or Adobe Portable Document Format (PDF) on the Internet at either of the following sites:

http://ocfo.ed.gov/fedreg.htm

http://www.ed.gov/news.html

To use the PDF you must have the Adobe Acrobat Reader Program with Search, which is available free at either of the previous sites. If you have questions about using the PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo. gov/nara/index.html

Dated: May 3, 2000.
Judith E. Heumann,
Assistant Secretary for Special Education and Rehabilitative Services.

[FR Doc. 00-11499 Filed 5-8-00; 8:45 am]

BILLING CODE 4000-01-P